DEPARTMENT OF THE TREASURY

Internal Revenue Service

26 CFR Part 1

[REG-106446-98]

RIN 1545-AW64

Relief From Joint and Several Liability; Correction

AGENCY: Internal Revenue Service (IRS), Treasury.

ACTION: Correction to proposed regulations.

SUMMARY: This document contains corrections to proposed regulations that were published in the Federal Register on January 17, 2001 (66 FR 3888). The regulations provide guidance to married individuals filing joint returns who may seek relief from joint and several liability.

FOR FURTHER INFORMATION CONTACT: Bridget E. Finkenaur (202) 622-4940 (not a toll-free number).

SUPPLEMENTARY INFORMATION:

Background

These proposed regulations that are the subject of this correction are under section 6015 of the Internal Revenue Code.

Need for Correction

As published, these proposed regulations (REG-106446-98) contains errors that may prove to be misleading and are in need of clarification.

Correction of Publication

Accordingly, the publication of the proposed regulations (REG-106446-98), which were the subject of FR. Doc 01-8, is corrected as follows:

§ 1.6015-3 [Corrected]

1. On page 3900, column 1, § 1.6015-3, paragraph (d)(5), paragraph (iii) of Example 5, line 1, the language “W's liability is limited $4,400 (⅘ ×” is corrected to read “W's liability is limited to $4,400 (⅘ ×”.

2. On page 3900, column 2, § 1.6015-3, paragraph (d)(5), paragraph (ii) of Example 6, line 9, the language “is limited to $3,900 (¾ of $5,200). If H also” is corrected to read “is limited to $4,160 (⅘ of $5,200). If H also”.

3. On page 3900, column 2, § 1.6015-3, paragraph (d)(5), paragraph (ii) of Example 6, line 11, the language “election to allocate the $3,900 of the” is corrected to read “election to allocate the $4,160 of the”.

4. On page 3900, column 2, § 1.6015-3, paragraph (d)(5) Example 7, line 5, the language “as in Example 7, except that H deducts” is corrected to read “as in Example 6, except that H deducts”.

Cynthia E. Grigsby,
Chief, Regulations Unit Office of Special Counsel (Modernization and Strategic Planning).

[FR Doc. 01-7825 Filed 3-28-01; 8:45 am]

BILLING CODE 4830-01-P